DEPARTMENT OF ENERGY

Federal Energy Regulatory Commission

Sunshine Act Meeting

February 20, 2002.

The following notice of meeting is published pursuant to section 3(A) of the Government in the Sunshine Act (Pub. L. No. 94-409), 5 U.S.C 552B:

Agency Holding Meeting: Federal Energy Regulatory Commission.

Date and Time: February 27, 2002, 10 a.m.

Place: Room 2C, 888 First Street, NE., Washington, DC 20426.

Status: Open.

Matters To Be Considered: Agenda.

*Note: Items listed on the agenda may be deleted without further notice.

Contact Person for More Information: Magalie R. Salas, Secretary.

Telephone (202) 208-0400 for a recording listing items stricken from or added to the meeting, call (202) 208-1627.

This is a list of matters to be considered by the Commission. It does not include a listing of all papers relevant to the items on the agenda. However, all public documents may be examined in the reference and information center.

786th Meeting—February 27, 2002, Regular Meeting, 10 a.m.

Administrative Agenda

A-1.

Docket# AD02-1,000, Agency Administrative Matters

A-2.

Docket# AD02-7,000, Customer Matters, Reliability, Security and Market Operations

Markets, Tariffs and Rates—Electric

E-1.

Docket# ER02-662, 000, Boston Edison Company

E-2.

Docket# ER02-653, 000, PacifiCorp

E-3.

Docket# ER02-658, 000, PJM Interconnection, L.L.C.

E-4.

Docket# ER02-700, 000, Florida Power & Light Company

E-5.

Omitted

E-6.

Docket# ER02-708, 000, Central Illinois Light Company

E-7.

Docket# ER01-890, 000, Boston Edison Company

E-8.

Omitted

E-9.

Docket# ER02-656, 000, New England Power Pool

E-10.

Omitted

E-11.

Docket# ER01-831, 000, San Diego Gas & Electric Company

Other#s ER01-832, 000, Southern California Edison Company

ER01-839, 000, Pacific Gas and Electric Company

ER01-839, 001, Pacific Gas and Electric Company

ER01-839, 003, Pacific Gas and Electric Company

E-12.

Docket# EL00-95, 051, San Diego Gas & Electric Company v. Sellers of Energy and Ancillary Services into Markets Operated by the California Independent System Operator Corporation and the California Power Exchange

Other#s EL00-98, 045, Investigation of Practices of the California Independent System Operator Corporation & California Power Exchange

E-13.

Omitted

E-14.

Docket# ER01-2967, 002, New York Independent System Operator, Inc.

Other#s ER01-2967, 003, New York Independent System Operator, Inc.

E-15.

Docket# ER99-1378, 000, Alliant Energy Corporation

E-16.

Docket# EC02-35, 000, Engage Energy America LLC., Frederickson Power L.P. and Duke Energy Corporation

E-17.

Docket# FA88-62, 000, Wisconsin Electric Power Company

Other#s EL94-16, 000, Wisconsin Electric Power Company

E-18.

Docket# TX96-2, 002, City of College Station, Texas

E-19.

Docket# EL01-19, 001, H.Q. Energy Services (U.S.), Inc. v. New York Independent System Operator, Inc.

Other#s EL02-16, 001, PSEG Energy Resources & Trade L.L.C. v. New York Independent System Operator, Inc.

E-20.

Docket# ER01-2390, 003, Huntington Beach Development, L.L.C.

E-21.

Omitted

E-22.

Omitted

E-23.

Docket# EL00-95, 052, San Diego Gas & Electric Company v. Sellers of Energy and Ancillary Services into Markets Operated by the California Independent System Operator Corporation and the California Power Exchange

Other#s EL00-98, 046, Investigation of Practices of California Independent System Operator Corporation & California Power Exchange

E-24.

Docket# ER01-3003, 001, Mid-Continent Area Power Pool

E-25.

Docket# EL02-18, 000, NEO, California Power L.L.C.

E-26.

Docket# RT01-98, 004, PJM Interconnection, L.L.C. and Allegheny Power

E-27.

Omitted

E-28.

Docket# EL01-105, 000, The New Power Company v. PJM Interconnection, Inc.

E-29.

Docket# EL02-19, 000, Illinois Municipal Electric Agency

E-30.

Omitted

E-31.

Docket# OA02-3, 000, Michigan Electric Transmission Company

E-32.

Docket# ER01-2020, 003, Carolina Power & Light Company and Florida Power Corporation

Other#s ER01-1807, 005, Carolina Power & Light Company and Florida Power Corporation

ER01-1807, 006, Carolina Power & Light Company and Florida Power Corporation

ER01-2020, 002, Carolina Power & Light Company and Florida Power Corporation

E-33.

Docket# ER01-2922, 001, New England Power Pool

E-34.

Docket# RM01-12, 000, Electricity Market Design and Structure

Other#s RT01-2, 000, PJM Interconnection L.L.C., Allegheny Electric Cooperative, Inc., Atlantic City Electric Company, Baltimore Gas & Electric Company, Delmarva Power & Light Company, Jersey Central Power & Light Company, Metropolitan Edison Company, PECO Energy Company, Pennsylvania Electric Company, Potomac Electric Power Company, PPL Electric Utilities Corporation, Public Service Electric & Gas Company and UGI Utilities, Inc.

RT01-10, 000, Allegheny Power

RT01-15, 000, Avista Corporation, Montana Power Company, Nevada Power Company, Portland General Electric Company, Puget Sound Energy, Inc. and Sierra Pacific Power Company

ER02-323, 000, Avista Corporation, Montana Power Company, Nevada Power Company, Portland General Electric Company, Sierra Pacific Power Company and TransConnect, LLC

RT01-34, 000, Southwest Power Pool, Inc.

RT01-35, 000, Avista Corporation, Bonneville Power Administration, Idaho Power Company, Montana Power Company, Nevada Power Company, PacifiCorp, Portland General Electric Company and Sierra Power Company

RTO1-67, 000, GridFlorida LLC, Florida Power & Light Company, Florida Power Corporation and Tampa Electric Company

RTO1-74, 000, Carolina Power & Light Company, Duke Energy Corporation, GridSouth Transco, LLC and South Carolina Electric & Gas Company

RTO1-75, 000, Entergy Services, Inc.

RTO1-77, 000, Southern Company Services, Inc.

RT01-85, 000, California Independent System Operator Corporation

RTO1-86, 000, Bangor Hydro-Electric Company, Central Maine Power Company, ISO New England Inc., National Grid USA, Northeast Utilities Service Company, United Illuminating Company and the Vermont Electric Power Company, Inc.

RTO1-87, 000, Midwest Independent System Operator

RTO1-88, 000, Ameren Corporation, American Electric Power Service Corporation, American Transmission Systems, Inc., Appalachian Power Company, Central Illinois Public Service Company, Cleveland Electric Illuminating Company, Columbus Southern Power Company, Commonwealth Edison Company of Indiana, Inc., Commonwealth Edison Company, Consumers Energy Company, Dayton Power and Light Company, Detroit Edison Company, Exelon Corporation, FirstEnergy Corporation, Illinois Power Company, Indiana Michigan Power Company, Kentucky Power Company, Kingsport Power Company, Ohio Edison Company, Ohio Power Company, Pennsylvania Power Company, Toledo Edison Company, Union Electric Company, Virginia Electric & Power Company and Wheeling Power Company

RTO1-94, 000, NSTAR Services Company

RTO1-95, 000, New York Independent System Operator, Inc., Central Hudson Gas & Electric Corporation, Consolidated Edison Company of New York, Inc., Niagara Mohawk Power Corporation, Orange & Rockland Utilities, Inc. and Rochester Gas and Electric Corporation

RTO1-98, 000, PJM Interconnection L.L.C., Monongahela Power Company, Potomac Edison Company and West Penn Power Company

RTO1-99, 000, Regional Transmission Organizations

RTO1-100, 000, Regional Transmission Organizations

RTO1-101, 000, International Transmission Company

EC01-146, 000, International Transmission Company and DTE Energy Company

ER01-3000, 000, International Transmission Company

RTO2-1, 000, Arizona Public Service Company, El Paso Electric Company, Public Service Company of New Mexico, Tucson Electric Power Company and WestConnect RTO, LLC

EL02-9, 000, Arizona Public Service Company, El Paso Electric Company, Public Service Company of New Mexico, Tucson Electric Power Company and WestConnect RTO, LLC

ECO1-156, 000, Alliant Energy Corporate Services, Inc., MidAmerican Energy Company, TRANSLink Transmission Company, L.L.C. and Xeel Energy Services, Inc.

ER01-3154, 000, Alliant Energy Corporate Services, Inc., MidAmerican Energy Company, TRANSLink Transmission Company, L.L.C. and Xeel Energy Services, Inc.

ELO1-80, 000, National Grid USA

E-35.

Docket# ADO1-3, 000, California Infrastructure Update

Miscellaneous Agenda

M-1.

Reserved

Markets, Tariffs and Rates—Gas

G-1.

Docket# RP01-375, 002, Vector Pipeline, L.P.

G-2.

Docket# RP02-147, 000, ANR Pipeline Company

G-3.

Docket# RP02-157, 000, Transwestern Pipeline Company

G-4.

Docket# PR02-1, 000, Acacia Natural Gas Corporation

G-5.

Docket# RP96-312, 061, Tennessee Gas Pipeline Company

Other#s GT01-34, 001, Tennessee Gas Pipeline Company

G-6.

Omitted

G-7.

Docket# RP00-340, 000, Gulf South Pipeline Company, LP

Other#s RP00-340, 001, Gulf South Pipeline Company, LP

RP00-340, 002, Gulf South Pipeline Company, LP

RP01-7, 000, Gulf South Pipeline Company, LP

G-8.

Docket# RP01-183, 000, OkTex Pipeline Company

G-9.

Docket# RP00-463, 000, Williston Basin Interstate Pipeline Company

Other#s RP00-463, 001, Williston Basin Interstate Pipeline Company

RP00-600, 000, Williston Basin Interstate Pipeline Company

G-10.

Docket# RP02-118, 000, High Island Offshore System

G-11.

Docket# RP00-331, 000, Algonquin Gas Transmission Company

Other#s RP00-331, 001, Algonquin Gas Transmission Company

RP01-23, 000, Algonquin Gas Transmission Company

RP01-23, 002, Algonquin Gas Transmission Company

G-12.

Omitted

G-13.

Docket# RP00-468, 000, Texas Eastern Transmission, L.P.

Other#s RP00-468, 001, Texas Eastern Transmission, L.P.

RP01-25, 000, Texas Eastern Transmission, L.P.

RP01-25, 001, Texas Eastern Transmission, L.P.

G-14.

Docket# RP00-484, 000, Wyoming Interstate Company, Ltd.

Other#s RP00-484, 001, Wyoming Interstate Company, Ltd.

RP01-39, 000, Wyoming Interstate Company, Ltd.

RP01-39, 001, Wyoming Interstate Company, Ltd.

G-15.

Docket# RP00-472, 000, USG Pipeline Company

Other#s RP01-31, 000, USG Pipeline Company

G-16.

Docket# RP00-536, 000, Venice Gathering System, L.L.C.

Other#s RP01-104, 000, Venice Gathering System, L.L.C.

G-17.

Docket# RP99-274, 003, Kern River Gas Transmission Company

G-18.

Docket# RP00-336, 002, El Paso Natural Gas Company

Other#s RP00-139, 000, ONEOK Energy Marketing & Trading Company, L.P.

RP01-484, 000, Aera Energy LLC

RP01-486, 000, Apache Nitrogen Products, Inc.

G-19.

Docket# RP00-408, 001, Ozark Gas Transmission, L.L.C.

G-20.

Docket# RP02-13, 001, Portland Natural Gas Transmission System

G-21.

Docket# RP98-430, 001, Transcontinental Gas Pipe Line Corporation

G-22.

Docket# RP98-40, 027, Panhandle Eastern Pipe Line Company

G-23.

Docket# IS00-221, 000, ExxonMobil Pipeline Company

Other#s OR00-2, 000, ExxonMobil Pipeline Company

G-24.

Docket# RP00-241, 007, Public Utilities Commission of the State of California v. El Paso Natural Gas Company, El Paso Merchant Energy-Gas, L.P. and El Paso Merchant Energy Company

G-25.

Docket# IS02-42, 001, Amberjack Pipeline Company

G-26.

Docket# RP01-236, 002, Transcontinental Gas Pipe Line Corporation

Other#s RP00-481, 002, Transcontinental Gas Pipe Line Corporation

RP00-553, 005, Transcontinental Gas Pipe Line Corporation

G-27.

Docket# GT02-1, 001, ANR Pipeline Company

G-28.

Docket# RP96-312, 067, Tennessee Gas Pipeline Company

G-29.

Docket# RP00-260, 008, Texas Gas Transmission Corporation

Other#s RP00-260, 000, Texas Gas Transmission Corporation

RP00-260, 001, Texas Gas Transmission Corporation

RP00-260, 002, Texas Gas Transmission Corporation

G-30.

Docket# RM96-1, 019, Standards for Business Practices of Interstate Natural Gas Pipelines

G-31.

Docket# MG02-1, 000, Southern LNG Inc.

G-32.

Docket# RP01-245, 007, Transcontinental Gas Pipe Line Corporation

G-33.

Docket# OR02-1, 000, Plantation Pipe Line Company

Energy Projects—Hydro

H-1.

Docket# UL00-3, 002, Homestake Mining Company

Other#s UL00-4, 002, Homestake Mining Company

H-2. Omitted

H-3. Omitted

H-4.

Docket# P-696, 012, PacifiCorp

H-5.

Docket# P-6032, 041, Niagara Mohawk Power Corporation and Fourth Branch Associates

H-6.

Omitted

H-7.

Docket# P-2177, 041, Georgia Power Company

Energy Projects—Certificates

C-1.

Docket# CP02-63, 000, White Rock Pipeline, L.L.C and Tri-State Ethanol Company, L.L.C.

Other#s CP02-63, 001, White Rock Pipeline, L.L.C. and Tri-State Ethanol Company, L.L.C.

C-2.

Docket# CP01-260, 000, Columbia Gas Transmission Corporation

C-3.

Docket# CP01-422, 000, Kern River Gas Transmission Company

C-4.

Docket# CP02-22, 000, Michigan Gas Storage Company

C-5.

Docket# CP02-27, 000, Florida Gas Transmission Company

C-6.

Docket# RP02-29, 001, Young Gas Storage Co., Ltd.

C-7.

Omitted

C-8.

Docket# CP01-376, 001, Intermountain Municipal Gas Agency and Questar Gas Company

Magalie R. Salas,
Secretary.

[FR Doc. 02-4558 Filed 2-21-02; 4:16 pm]

BILLING CODE 6717-01-P